DEPARTMENT OF AGRICULTURE

National Agricultural Statistics Service

Notice of Intent To Seek Approval To Revise a Currently Approved Information Collection

AGENCY: National Agricultural Statistics Service, (USDA).

ACTION: Notice and request for comments.

SUMMARY: In accordance with the Paperwork Reduction Act of 1995 44 U.S.C. 3501 et seq. and Office of Management and Budget regulations at 5 CFR part 1320 (60 FR 44978, August 29, 1995), this notice announces the intent of the National Agricultural Statistics Service (NASS) to request revision to a currently approved information collection, (OMB No. 0535-0244) the Nursery Production Survey and Nursery and Floriculture Chemical Use Survey.

DATES: Comments on this notice must be received by October 20, 2003, to be assured of consideration.

ADDRESSES: Comments may be sent to Ginny McBride, NASS OMB Clearance Officer, USDA, Room 5336 South Building, 1400 Independence Avenue SW., Washington, DC 20250 or to gmcbride@nass.usda.gov.

FOR FURTHER INFORMATION CONTACT: Carol House, Associate Administrator, NASS, USDA, (202) 720-4333.

SUPPLEMENTARY INFORMATION: Title: Nursery Production Survey and Nursery and Floriculture Chemical Use Survey.

OMB Control Number: 0535-0244.

Expiration Date of Approval: January 31, 2004.

Type of Request: Intent to Seek Approval to Revise a Currently Approved Information Collection.

Abstract: This NASS information collection will again measure production and value of key nursery products as well as chemical use in nursery and floriculture operations. The first Nursery Production Survey, covering the year 2000, revealed that gross value of sales for 9 categories of nursery products totaled $3.32 billion in seventeen selected States. Although nursery production continues to be the fastest growing segment of American agriculture, the USDA has not previously made regular estimates of nursery production. The Nursery Production Survey will update the production and economic contribution of the nursery industry to U.S. agriculture every 2 years by conducting a census of nursery and greenhouse operations with sales over $10,000 in the 17 major producing States. These operations will receive the production mail questionnaire with some telephone and personal interview follow-up for non-response.

The first Nursery and Floriculture Chemical Use Survey measured chemical use, covering the year 2000, related to the production of nursery and floriculture crops in the six major producing States. The resulting publication, part of the NASS series on Agricultural Chemical Usage, summarized rates of application, total amount of active ingredients applied, and use of pest management practices. NASS collects on-farm chemical use data to enhance the quality of information used in the evaluation of issues related to agricultural chemicals, including pesticide registrations. Pest management data are used to measure integrated pest management (IPM) adoption levels and evaluate the impact of alternative pesticide regulations, policies, and practices. A sample of nursery and floriculture operations with sales over $10,000 in the major States will be personally interviewed, since chemical use data are not accurately collected by telephone or mail. Data collection for both surveys is scheduled to coincide with the annual Commercial Floriculture Survey (of production, OMB docket #0535-0093) in January—March 2004. These data will be collected under the authority of 7 U.S.C. 2204(a). Individually identifiable data collected under this authority are governed by Section 1770 of the Food Security Act of 1985, 7 U.S.C. 2276, which requires USDA to afford strict confidentiality to non-aggregated data provided by respondents.

Estimate of Burden: Based on data collected on the 2000 Nursery Production Survey, the nursery production questionnaire is expected to average 35 minutes per respondent. Based on the 2000 Nursery and Floriculture Chemical Use Survey, it is estimated that the chemical use questionnaire will average 60 minutes per respondent.

Respondents: Producers of nursery, greenhouse, and floriculture products.

Estimated Number of Respondents: 8,800.

Estimated Total Annual Burden on Respondents: 6,000 hours.

Copies of this information collection and related instructions can be obtained without charge from Ginny McBride, NASS OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be included in the request for OMB approval.

Signed at Washington, DC, July 14, 2003.
Carol House,
Associate Administrator.

[FR Doc. 03-20877 Filed 8-14-03; 8:45 am]

BILLING CODE 3410-20-P